DEPARTMENT OF JUSTICE

Antitrust Division

Notice Pursuant to the National Cooperative Research and Production Act of 1993—Petroleum Environmental Research Forum Project No. 03-03

Notice is hereby given that, on November 2, 2004, pursuant to section 6(a) of the National Cooperative Research and Production Act of 1993, 15 U.S.C. 4301 et seq. (“the Act”), Petroleum Environmental Research Forum Project No. 03-03 (“PERF; Project No. 03-03”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: ChevronTexaco Energy Technology Company, Richmond, CA; ExxonMobil Production Company, Houston, TX; Total E&P Services, Courbevoie, FRANCE; Halliburton Energy Services Group, Houston, TX; and Statoil ASA, Stavanger, NORWAY. The general area of PERF Project No. 03-03's planned activity is to generate a set of model technical standards that may be incorporated into regulations (framework) based on a risk approach to protect health and the environment at E&P operations. The activities to be carried out include the development of a framework from which risk based technical standards can be derived. Participation in this joint venture will remain open to qualified persons and organizations, and the participants intend to file additional written notifications disclosing all changes in membership.

Dorothy B. Fountain,
Deputy Director of Operations, Antitrust Division.

[FR Doc. 04-25836 Filed 11-19-04; 8:45 am]

BILLING CODE 4410-11-M